DEPARTMENT OF AGRICULTURE

Natural Resources Conservation Service

Notice of Intent To Prepare a Supplemental Environmental Impact Statement for the Odessa Subarea Special Study Project in Adams, Franklin, Grant, and Lincoln Counties, Washington

AGENCY: Natural Resources Conservation Service, U.S. Department of Agriculture (USDA).

ACTION: Notice of Intent (NOI) to prepare a Supplemental Environmental Impact Statement (SEIS).

SUMMARY: The Natural Resources Conservation Service (NRCS) Washington State Office, in coordination with the U.S. Bureau of Reclamation (Reclamation) and the Washington State Department of Ecology (Ecology), announces its intent to prepare an SEIS for the Odessa Subarea Special Study Project. The SEIS is necessary to evaluate modification of a component of Alternative 4A that would install a buried pipeline irrigation across lands that were not evaluated in FEIS. Installation of this pipeline would require blasting which was not addressed in FEIS. The intended effect of this action would result in the most economically viable way of providing surface water irrigation to specific cultivated lands in the Study Area in lieu of groundwater irrigation. The SEIS will examine an irrigation delivery system designated East Low Canal (EL) 11.8 that would serve approximately 7,638 acres of land currently served by groundwater in the northeastern portion of the East Columbia Basin Irrigation District (ECBID) in Grant County. NRCS is accepting comments regarding significant issues, potential alternatives, information, and analyses relevant to the proposed action from all interested individuals, Federal and State agencies, and Tribes.

DATES: We will consider comments that are received by February 21, 2025. We will consider comments received after this period to the extent possible.

ADDRESSES: We invite you to submit comments in response to this notice. You may submit your comments through the method below:

• Mail or Hand Delivery: Farmers Conservation Alliance, 102 State Street, Hood River, OR 97031; or Phone: (541) 716-6085. In your comments, specify the SEIS for EL 11.8.

• Electronic Submittal: Comments may be submitted online at https://www.ogwrp-programs.org/watershed-plan.

All comments received will be posted without change and made publicly available on the project web page https://www.ogwrp-programs.org/watershed-plan.

FOR FURTHER INFORMATION CONTACT: Jules Riley, telephone: (509) 507-0178; email: jules.riley@usda.gov for questions related to submitting comments; or visit the project website at https://www.ogwrp-programs.org/watershed-plan.

Individuals who require alternative means for communication should contact the U.S. Department of Agriculture (USDA) Target Center at (202) 720-2600 (voice and text telephone [TTY]) or dial 711 for Telecommunications Relay service (both voice and text telephone users can initiate this call from any telephone).

SUPPLEMENTARY INFORMATION:

Purpose and Need

The project area is located within the Odessa Subarea in Adams, Franklin, Grant, and Lincoln Counties, Washington. The Reclamation and Ecology 2012 Final EIS (FEIS) was published in a local newspaper on August 31, 2012. Reclamation selected Alternative 4A, the Modified Partial-Replacement-Banks with Limited Spring Diversion Scenario. This alternative delivers surface water from the Columbia Basin Project (CBP) to irrigated lands that currently rely on declining groundwater supply in the Odessa Subarea Special Study Area (Study Area).

The primary purpose for the proposed action is to maintain economic viability by providing surface water from CBP to replace groundwater from declining wells currently used for irrigation in the Study Area. Watershed planning is authorized under the Watershed Protection and Flood Prevention Act of 1954 (Pub. L. 83-566), as amended, and the Flood Control Act of 1944 (Pub. L. 78-534). This SEIS will analyze a distribution system route that traverses lands not included in the 2012 FEIS Study Area.

This action is needed to address declining groundwater supply in the Study Area and avoid economic loss to the region's agricultural sector. Located in central Washington State, ECBID is the largest irrigation district in the State, with authorization to irrigate 472,000 acres. Currently, 167,365 acres are irrigated and managed by 4,500 landowners within CBP. Additionally, ECBID provides infrastructure to deliver irrigation surface water for 87,638 acres associated with the Odessa Groundwater Replacement Program.

Under Alternative 4A, ECBID would provide CBP surface water for irrigation to replace groundwater irrigation to approximately 70,000 acres of lands north and south of I-90. The proposed action is essential to deliver CBP water to lands currently irrigated with groundwater. The 2012 FEIS conceptually analyzed alternatives for alignments that would deliver surface water from CBP to the lands to be served by the proposed EL 11.8 distribution system, specifically within alternatives analyzed in detail and not selected.

Water delivery to these lands was proposed to be served by a new canal, designated the East High Canal. With the selection of Alternative 4A as the preferred alternative, the East High Canal was not chosen for construction to service those lands. However, due to the flexibility afforded in the 2012 FEIS, and due to the irrigator's need for surface water in that area, a new alignment was subsequently designed from EL to ensure the delivery of surface water to the area.

The lands that will be analyzed in the SEIS Study Area include a mix of undeveloped and agricultural lands within the Odessa Groundwater Management Subarea and the Odessa Subarea Special Study Area boundaries in Grant County. A portion of the lands that the distribution system would cross from EL to the delivery point were not analyzed in the 2012 FEIS Study Area, and the SEIS will consider the impacts of construction and operation of EL 11.8 on these lands. The construction of EL 11.8 is anticipated to require blasting in the first 5.5 miles of the alignment. The 2012 FEIS did not analyze noise and vibration effects associated with blasting because the distribution alignments anticipated at the time were not expected to require blasting. NRCS will, therefore, analyze the effects of noise and vibration within the anticipated affected area. The lands that the distribution system would serve were analyzed in the 2012 FEIS Study Area, and NRCS has determined that additional analysis of these lands is not needed.

If selected as the SEIS preferred alternative after finalization of the SEIS, EL 11.8 would become a component of Alternative 4A. This would be formalized by amending the NRCS 2024 ROD for Alternative 4A to include this distribution system. A map of the EL 11.8 distribution system is available at: http://www.ogwrp-programs.org/watershed-plan. The EL 11.8 would be included in the watershed plan being written by NRCS for Alternative 4A to be eligible for funding under Public Law 83-566.

Estimated Federal funds required for the construction of the proposed action that would become a component of Alternative 4A will exceed $25 million. Consistent with section 2 of the Watershed Protection and Flood Prevention Act of 1954, (16 U.S.C. 1002), given that the Federal construction cost are estimated to be greater than $25 million, the Agriculture, Nutrition and Forestry Committee of the Senate and the Committee on Agriculture of the House of Representatives will be notified that the Chief of NRCS plans to authorize this project for implementation.

Preliminary Proposed Action and Alternatives, Including No Action

The SEIS objective is to formulate and evaluate alternatives for the avoidance of economic loss to the region's agricultural sector along with impacts to domestic and municipal water supplies. The SEIS will analyze a distribution system route that was not included in Alternative 4A for delivery of surface water from the CBP to replace groundwater irrigation in lands in the Odessa Subarea Special Study Area. The SEIS is expected to evaluate two alternatives: one no action alternative and one action alternative.

The alternatives that may be considered for detailed analysis include:

• Alternative 1—No Action Alternative: Taking no action would consist of activities conducted if no Federal action or funding were provided for the proposed action. If the No Action Alternative is selected, the irrigators in the Study Area would not be able to maintain economic viability because they would not be able to access irrigation water. The groundwater levels in the Study Area are declining. Due to that decline, irrigation water quantities are expected to become insufficient to support agricultural needs, which would lead to economic loss in the project area. Declining groundwater levels may also impact area domestic and municipal water supply. No Federal action or funding would be associated with the proposed action with the No Action Alternative.

• Alternative 2—Proposed Action—EL 11.8. The proposed action would include the construction and operation of EL 11.8, which is a surface water distribution system alignment north of I-90 and east of Ephrata, Washington that would provide irrigation surface water from EL to lands 5 to 10 miles east along road W NE. The proposed EL 11.8 system would include a new canal turnout infrastructure, a large-scale canal pump station, and 10.5 miles of large-diameter pipeline (60-inch- through 44-inch-diameter mainline). The EL 11.8 system would serve approximately 7,638 acres of land currently served by groundwater. If EL 11.8 is chosen as the preferred alternative in the supplemental EIS, these lands would be a portion of the overall 70,000 acres of land authorized under Alternative 4A for one-to-one replacement of groundwater irrigation with CBP surface water. The lands that the distribution system would serve were analyzed in the 2012 FEIS study area; however, a portion of the pipeline alignment for the distribution system is proposed to cross lands that were not analyzed in the 2012 FEIS. The SEIS Study Area includes a mix of undeveloped and agricultural lands within the Odessa Groundwater Management Subarea and the Odessa Subarea Special Study Area boundaries in Grant County. Ownership of lands in the project area consists of private, State and Federal landholders.

Summary of Expected Impacts

If the proposed action is chosen as the preferred alternative in the supplemental EIS, it will become a component of Alternative 4A.

The SEIS will be prepared as required by section 102(2)(C) of the National Environmental Policy Act of 1969 (NEPA, (42 U.S.C. 4332(2)(C))); the Council on Environmental Quality Regulations (40 CFR parts 1500 through 1508); and NRCS regulations that implement NEPA in 7 CFR part 650.

Resource concerns for the scope of resource effects analysis for the SEIS will be similar to that documented in the 2012 FEIS. The SEIS will analyze construction and operational impacts on the previously unanalyzed area that the EL 11.8 distribution system will cross, and the effects of blasting (noise and vibration) in the blast effect zone that will be used to construct the distribution system. Additionally, NRCS solicited comments from the public and coordinated with agency and tribal interested parties during the 2024 FEIS adoption process to ascertain relevant resource concerns. Environmental resources in the project area consist of the natural and human-made environment. Resource concerns to be identified and addressed in the SEIS include: the presence of Endangered Species Act (ESA)-listed species including candidate species; biological resources such as shrub-steppe habitat; geology and soils; noise and vibration related to potential blasting during construction; and cultural resources.

Anticipated Permits and Authorizations

The following permits, authorizations, or consultation processes are anticipated to be required or have previously been fully addressed as noted below:

• ESA. Consultation with the U.S. Fish and Wildlife Service would be conducted as required by ESA.

• ESA. Based on coordination with National Marine Fisheries Service (NMFS) for the 2024 adoption of the FEIS by NRCS, NMFS decided that additional consultation or reinitiation of ESA under its jurisdiction was not needed since no additional withdrawals of CBP water would occur under the proposed action.

• Clean Water Act and National Pollutant Discharge Elimination System (NPDES). The project would require permitting under section 402 of the NPDES for stormwater discharge from a construction site.

• National Historic Preservation Act (NHPA) Section 106. Consultation with Tribal Nations and interested parties would be conducted as required by the NHPA.

• Washington State Environmental Policy Act (SEPA). Coordination for SEPA approval would be required for construction and operation of EL 11.8 within non-Federal lands. As a cooperating agency, it is anticipated that Ecology will adopt the supplemental EIS for SEPA needs in accordance with Washington Administrative Code 197-11-610.

• Washington Department of Fish and Wildlife (WDFW) Hydraulic Project Approval (HPA). Consultation with WDFW and potential HPA permits would be required for projects in or near State waters.

• Local Grading and Storm Permit. Consultation for potential grading and storm permits would be required with Grant County for all construction work within non-Federal lands.

Schedule of Decision-Making Process

A draft SEIS (DSEIS) will be prepared and circulated for review and comment by agencies, Tribes, consulting parties, and the public for 45 days as required by the regulations in 40 CFR 1503.1, 1502.20, 1506.11, and 1502.17, and 7 CFR 650.13. The DSEIS is anticipated to be published in the Federal Register, approximately 12 months after publication of this NOI. A Final SEIS is anticipated to be published within 6 months of completion of the public comment period for the DSEIS.

NRCS will decide whether to implement or withdraw the proposed action alternatives as evaluated in the SEIS. A DSEIS will be completed and will be publicly available for comments. The Responsible Federal Official (RFO) and decision-maker for NRCS is the Washington State Conservationist. Reclamation, as a cooperating Federal agency, will make a decision to issue its own ROD in a similar manner. The decision-maker and RFO for Reclamation is the Regional Director, Columbia-Pacific Northwest Region.

Public Scoping Process

Public scoping is not a requirement for an SEIS (40 CFR 1502.9 (d)(3)). Public scoping was conducted for the 2012 FEIS and is documented in the 2012 FEIS and associated ROD. For the 2024 adoption of the FEIS, NRCS solicited public comments and conducted agency and tribal outreach and coordination. Comments received, including the names and addresses of those who commented, are part of the public record and are documented in the NRCS 2024 ROD for the FEIS adoption.

Identification of Potential Alternatives, Information, and Analyses

NRCS invites agencies, Tribes, consulting parties, and individuals that have special expertise, legal jurisdiction, or interest to provide written comments concerning the scope of the analysis and identification of potential alternatives, information, and analyses relevant to the Proposed Action.

The information about historic and cultural resources within the area potentially affected by the proposed project will assist NRCS in identifying and evaluating impacts to such resources in the context of both NEPA and NHPA.

NRCS will invite Native American Tribes to consult on a government-to-government basis in accordance with the regulations in 36 CFR 800.2 and 800.3, Executive Order 13175, and other policies. Tribal concerns, including impacts on Indian trust assets and potential impacts to cultural resources and historic properties, will be given due consideration.

Authorities

This document is published as specified by the NEPA regulations regarding publication of an NOI to issue a SEIS (40 CFR 1501). Watershed planning is authorized under the Watershed Protection and Flood Prevention Act of 1954, as amended and the Flood Control Act of 1944.

Federal Assistance Programs

The title and number of the Federal Assistance Program as found in the Assistance Listing ¹ to which this document applies is 10.904, Watershed Protection and Flood Prevention. The Regional Conservation Partnership Program is a potential funding source in addition to other funding opportunities that may arise, for which the title and number of the Federal Assistance Program is: 10.932—Regional Conservation Partnership Program.

¹ See https://sam.gov/content/assistance-listings.

Executive Order 12372

Executive Order 12372, “Intergovernmental Review of Federal Programs,” requires consultation with State and local officials that would be directly affected by proposed Federal financial assistance. The objectives of the Executive Order are to foster an intergovernmental partnership and a strengthened federalism, by relying on State and local processes for State and local government coordination and review of proposed Federal financial assistance and direct Federal development. This project is subject to the provisions of Executive Order 12372, which requires intergovernmental consultation with State and local officials.

U.S. Department of Agriculture Non-Discrimination Policy

In accordance with Federal civil rights law and USDA civil rights regulations and policies, USDA, its agencies, offices, and employees, and institutions participating in or administering USDA programs are prohibited from discriminating based on race, color, national origin, religion, sex, gender identity (including gender expression), sexual orientation, disability, age, marital status, family or parental status, income derived from a public assistance program, political beliefs, or reprisal or retaliation for prior civil rights activity, in any program or activity conducted or funded by USDA (not all bases apply to all programs). Remedies and complaint filing deadlines vary by program or incident.

Individuals who require alternative means of communication for program information (for example, braille, large print, audiotape, American Sign Language, etc.) should contact the responsible agency or USDA TARGET Center at (202) 720-2600 (voice and telephone) or dial 711 for Telecommunications Relay Service (both voice and text telephone users can initiate this call from any phone). Additionally, program information may be made available in languages other than English.

To file a program discrimination complaint, complete the USDA Program Discrimination Complaint Form, AD-3027, found online at https://www.usda.gov/oascr/how-to-file-a-program-discrimination-complaint and at any USDA office, or write a letter addressed to USDA and provide in the letter all the information requested in the form. To request a copy of the complaint form, call (866) 632-9992. Submit your completed form or letter to USDA by: (1) mail to U.S. Department of Agriculture, Office of the Assistant Secretary for Civil Rights, 1400 Independence Avenue SW, Washington, DC 20250-9410; (2) fax to (202) 690-7442; or by (3) email to program.intake@usda.gov.

USDA is an equal opportunity provider, employer, and lender.

Roylene Comes At Night,
Washington State Conservationist, USDA Natural Resources Conservation Service.

[FR Doc. 2025-01440 Filed 1-21-25; 8:45 am]

BILLING CODE 3410-16-P